DEPARTMENT OF ENERGY

Federal Energy Regulatory Commission

[Docket No. RP01-122-000]

Chandeleur Pipe Line Company; Notice of Proposed Changes in FERC Gas Tariff

December 5, 2000.

Take notice that on November 30, 2000, Chandeleur Pipe Line Company Pipe Line (Chandeleur) tendered for filing proposed changes in its FERC Gas Tariff, Second Revised Volume No. 1, Eleventh Revised Sheet No. 5, with an effective date of January 1, 2001.

Chandeleur states that it is proposing to change it's Fuel and Line Loss Allowance from 0.2% to 0.0%, to become effective January 1, 2001.

Chandeleur states that copies of the filing were served upon the company's jurisdictional customers and state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31428 Filed 12-8-00; 8:45 am]

BILLING CODE 6717-01-M